DEPARTMENT OF LABOR

Office of the Secretary

Submission for OMB Review: Comment Request

March 10, 2005.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Occupational Safety and Health Administration (OSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

Title: Commercial Diving Operations (29 CFR part 1910, subpart T).

OMB Number: 1218-0069.

Frequency: On occasion and Annually.

Type of Response: Recordkeeping; Reporting; and Third party disclosure.

Affected Public: Business or other for-profit; Federal Government; and State, local, or tribal government.

Number of Respondents: 3,000.

Number of Annual Responses: 4,002,966.

Estimated Time Per Response: Varies from 3 minutes to replace the safe practices manual to 1 hour to develop a new manual.

Total Burden Hours: 205,397.

Total Annualized Capital/Startup Costs: $0.

Total Annual Costs (operating/maintaining systems or purchasing services): $0.

Description: 29 CFR part 1910, subpart T (“the Subpart”) contains a number of paperwork requirements. The following paragraphs describe these requirements; specify who uses them, and what purpose they serve.

Section 910.401(b). Description of the requirement. Allows employers to deviate from the requirements of the subpart to the extent necessary to prevent or minimize a situation that is likely to cause death, serious physical harm, or major environmental damage (but not situations in which purely economic or property damage is likely to occur). Employers must notify the OSHA Area Director within 48 hours of taking such action; this notification must describe the situation responsible for the deviation and the extent of the deviation from the requirements. On request of the Area Director, employers must submit this information in writing.

Sections 1910.410(a)(3) and (a)(4). Description of the requirements. Paragraph (a)(3) requires employers to train all dive-team members in cardiopulmonary resuscitation and first aid (i.e., the American Red Cross standard course or equivalent), while paragraph (a)(4) specifies that employers train dive-team members exposed to hyperbaric conditions, or who control exposure of other employees to such conditions, in diving-related physics and physiology.

Section 1910.420(a). Description of the requirement. Under paragraph (a), employers must develop and maintain a safe-practices manual and make it available to each dive-team member at the dive location. In addition, for each diving mode used at the dive location, the manual must contain: safety procedures and checklists for diving operations; assignments and responsibilities of the dive-team members; equipment procedures and checklists; and emergency procedures for fire, equipment failures, adverse environmental conditions, and medical illness and injury.

Section 1910.421(b). Description of the requirement. Under this provision, employers are to keep at the dive location a list of telephone or call numbers for the following emergency facilities and services: An operational decompression chamber (when such a chamber is not at the dive location); accessible hospitals; available physicians and means of emergency transportation; and the nearest U.S. Coast Guard Rescue Coordination Center.

Section 1910.421(f). Description of the requirement. Requires employers to brief dive-team members on the diving-related tasks they are to perform, safety procedures for the diving mode used at the dive location, any unusual hazards or environmental conditions likely to affect the safety of the diving operation, and any modifications to operating procedures necessitated by the specific diving operation. Before assigning diving-related tasks, employers must ask each dive-team member about their current state of physical fitness, and inform the member about the procedure for reporting physical problems or adverse physiological effects during and after the dive.

Section 1910.421(h). Description of the requirement. When the diving operation occurs in an area capable of supporting marine traffic and occurs from a surface other than a vessel, employers are to display a rigid replica of the international code flag “A” that is at least one meter in height so that it is visible from any direction; the employer must illuminate the flag during night diving operations.

Section 1910.422(e). Description of the requirement. Employers must develop and maintain a depth-time profile for each diver that includes, as appropriate, any breathing gas changes or decompression.

Sections 1910.423(b)(1)(ii) through (b)(2). Description of the requirements. Requires the employer to: instruct each diver to report any physical symptoms or adverse physiological effects, including symptoms of DCS; advise each diver of the location of a decompression chamber that is ready for use; and alert each diver to the potential hazards of flying after diving. For any dive outside the no-decompression limits, deeper than 100 feet, or that uses mixed gas in the breathing mixture, the employer also must inform the diver to remain awake and in the vicinity of the decompression chamber that is at the dive location for at least one hour after a dive, or after any decompression or treatment associated with a dive.

Section 1910.423(d). Description of the requirement. Paragraph (d)(1) specifies that employers are to record and maintain the following information for each diving operation: The names of dive-team members; date, time, and location; diving modes used; general description of the tasks performed; an estimate of the underwater and surface conditions; and the maximum depth and bottom time for each diver. In addition, for each dive outside the no-decompression limits, deeper than 100 feet, or that uses mixed gas in the breathing mixture, paragraph (d)(2) requires the employer to record and maintain the following information for each diver: Depth-time and breathing-gas profiles; decompression table designation (including any modifications); and elapsed time since the last pressure exposure when it is less than 24 hours or the repetitive dive designation. Under paragraph (d)(3), if the dive results in DCS symptoms, or the employer suspects that a diver has DCS, the employer must record and maintain a description of the DCS symptoms (including the depth and time of symptom onset) and the results of treatment.

Section 1910.423(e). Description of the requirement. Requires employers to assess each DCS incident by: investigating and evaluating it based on the recorded information, consideration of the past performance of the decompression profile used, and the diver's individual susceptibility to DCS; taking appropriate corrective action to reduce the probability of a DCS recurrence; and, within 45 days of the DCS incident, preparing a written evaluation of this assessment, including any corrective action taken.

Sections 1910.430(a), (b)(4), (c)(1)(ii), (c)(3)(i), (f)(3)(ii), and (g)(2). Description of the requirements. Paragraph (a) contains a general requirement that employers must record by means of tagging or a logging system any work performed on equipment, including any modifications, repairs, tests, calibrations, or maintenance performed on the equipment. This record is to include a description of the work, the name or initials of the individual who performed the work, and the date they completed the work. Paragraphs (b)(4) and (c)(1)(iii) require employers to test two specific types of equipment, including, respectively: the output of air compressor systems used to supply breathing air to divers for air purity every six months by means of samples taken at the connection to the distribution system; and breathing-gas hoses at least annually at one and one-half times their working pressure. Under paragraph (c)(3)(i), employers must mark each umbilical (i.e., separate lines supplying air and communications to a diver, as well as a safety line, tied together in a bundle), beginning at the diver's end, in 10-foot increments for 100 feet, then in 50-foot increments. Paragraph (f)(3)(ii) mandates that employers regularly inspect and maintain mufflers located in intake and exhaust lines on decompression chambers. According to paragraph (g)(2), employers are to test depth gauges using dead-weight testing, or calibrate the gauges against a master reference gauge; such testing or calibration is to occur every six months and when the employer finds a discrepancy larger than two percent of the full scale between any two equivalent gauges. Employers must make a record of the tests, calibrations, inspections, and maintenance performed on the equipment specified by these paragraphs in accordance with § 1910.430(a).

Sections 1910.440(a)(2) and (b). Description of the requirements. Under paragraph (a)(2) of this provision, employers must record any diving-related injuries and illnesses that result in a dive-team member remaining in hospital for at least 24 hours. This record is to describe the circumstances of the incident and the extent of any injuries or illnesses.

Paragraph (b) of this provision regulates the availability of the records required by the Subpart, including who has access to these records, the retention periods for various records, and, in some cases, the final disposition of the records. Under paragraph (b)(1), employers must make any record required by the Subpart available, on request, for inspection and copying by an OSHA compliance officer or to a representative of the National Institute for Occupational Safety and Health (NIOSH). Paragraph (b)(2) specifies that employers are to provide employees, their designated representatives, and OSHA compliance officers with exposure and medical records generated under the Subpart in accordance with § 1910.1020 (“Access to employee exposure and medical records”); these records include safe-practices manuals, depth-time profiles, diving records, DCS incident assessments, and hospitalization records. This paragraph also mandates that employers make equipment inspection and testing records available to employees and their designated representative on request.

According to paragraph (b)(3), employers must retain these records for the following periods: Safe-practices manuals, current document only; depth-time profiles, until completing the diving record or the DCS incident assessment; diving records, one year, except five years when a DCS incident occurred during the dive; DCS incident assessments, five years; hospitalization records, five years; and equipment inspections and testing records (i.e., current tag or log entry), until the employer removes the equipment from service. Paragraphs (b)(4) and (b)(5) specify the requirements for disposing of these records. Under paragraph (b)(4), employers are to forward to NIOSH any record with an expired five-year retention period. Paragraph (b)(5) states that employers who cease to do business must transfer records without unexpired retention dates to the successor employer who will retain them for the required period; however, when employers cease to do business without a successor employer, they must transfer the records to NIOSH.

Ira L. Mills,
Departmental Clearance Officer.

[FR Doc. 05-5802 Filed 3-23-05; 8:45 am]

BILLING CODE 4510-26-P